FEDERAL COMMUNICATIONS COMMISSION

[OMB 3060-XXXX]

Information Collection Being Submitted to the Office of Management and Budget (OMB) for Emergency Review and Approval

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written comments should be submitted on or before January 4, 2018. If you anticipate that you will be submitting comments, but find it difficult to do so within the period of time allowed by this notice, you should advise the contacts below as soon as possible.

ADDRESSES: Direct all PRA comments to Nicholas A. Fraser, OMB, via email: Nicholas_A._Fraser@omb.eop.gov; and to Cathy Williams, FCC, via email: PRA@fcc.gov and to Cathy.Williams@fcc.gov.

FOR FURTHER INFORMATION CONTACT: For additional information about the information collection, contact Cathy Williams at (202) 418-2918. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: The Commission is requesting emergency OMB processing of the information collection requirements contained in this notice and has requested OMB approval by January 10, 2018.

As part of its continuing effort to reduce paperwork burdens, and as required by the PRA, 44 U.S.C. 3501-3520, the FCC invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-XXXX.

Title: Telecommunications Relay Services and Speech-to-Speech Services for Individuals with Hearing and Speech Disabilities, CG Docket No. 03-123, Financial Data, Complaints, and Other Compliance Information.

Form Number: N/A.

Type of Review: New collection.

Respondents: Business or other for-profit; Individuals or household.

Number of Respondents and Responses: 72 respondents; 3,614 responses.

Estimated Time per Response: 30 minutes (0.5 hours) to 50 hours.

Frequency of Response: Annually, monthly, on occasion, and one-time reporting requirements; Recordkeeping and Third-Party Disclosure requirements.

Obligation to Respond: Required to obtain or retain benefit. The statutory authority for the information collection requirements is found at section 225 of the Communications Act, 47 U.S.C. 225. The law was enacted on July 26, 1990, as Title IV of the ADA, Public Law 101-336, 104 Stat. 327, 366-69.

Total Annual Burden: 5,537 hours.

Total Annual Cost: $9,000.

Nature and Extent of Confidentiality: Confidentiality is an issue to the extent that individuals and households provide personally identifiable information, which is covered under the FCC's updated system of records notice (SORN), FCC/CGB-1, “Informal Complaints, Inquiries, and Requests for Dispute Assistance.” As required by the Privacy Act, 5 U.S.C. 552a, the Commission also published a SORN, FCC/CGB-1 “Informal Complaints, Inquiries, and Requests for Dispute Assistance,” in the Federal Register on August 15, 2014 (79 FR 48152) which became effective on September 24, 2014.

Privacy Impact Assessment: The FCC completed a Privacy Impact Assessment (PIA) on June 28, 2007. It may be reviewed at http://www.fcc.gov/omd/privacyact/Privacy-Impact-Assessment.html. The Commission is in the process of updating the PIA to incorporate various revisions to it as a result of revisions to the SORN.

Needs and Uses: On December 21, 2001, the Commission released the 2001 TRS Cost Recovery Order, document FCC 01-371, in which the Commission:

(a) Directed the Interstate Telecommunications Relay Services (TRS) Fund (TRS Fund) administrator to continue to use the average cost per minute compensation methodology for the traditional TRS compensation rate;

(b) required TRS providers to submit certain projected TRS-related cost and demand data to the TRS Fund Administrator to be used to calculate the rate; and

(c) directed the TRS Fund administrator to expand its form for providers to itemize their actual and projected costs and demand data, to include specific sections to capture speech-to-speech (STS) and video relay service (VRS) costs and minutes of use.

On November 19, 2007, the Commission released the 2007 Cost Recovery Order, document FCC 07-486, in which the Commission:

(a) Adopted a new cost recovery methodology for interstate traditional TRS and interstate STS based on the Multi-state Average Rate Structure (MARS) plan, under which interstate TRS compensation rates are determined by weighted average of the states' intrastate compensation rates, and which includes for STS additional compensation approved by the Commission for STS outreach;

(b) adopted a new cost recovery methodology for interstate captioned telephone service (CTS), as well as Internet Protocol captioned telephone service (IP CTS), based on the MARS plan;

(c) adopted a cost recovery methodology for Internet Protocol (IP) Relay based on price caps;

(d) adopted a cost recovery methodology for VRS that adopted tiered rates based on call volume;

(e) clarified the nature and extent that certain categories of costs are compensable from the Fund; and

(f) addressed certain issues concerning the management and oversight of the Fund, including prohibiting financial incentives offered to consumers to make relay calls and the role of the Interstate TRS Fund Advisory Council.

47 CFR 64.604(c)(5)(iii)(D), mandatory minimum standards adopted in the 2007 Cost Recovery Order, requires that TRS providers submit to the TRS Fund administrator information reasonably requested by the administrator, including the following for intrastate traditional TRS, STS, and CTS:

(a) The per-minute compensation rate(s);

(b) whether the rate applies to session minutes or conversation minutes;

(c) the number of intrastate session minutes; and

(d) the number of intrastate conversation minutes.

47 CFR 64.604(a)(7) requires that in order for VRS providers to be compensated from the TRS Fund for U.S. residents making VRS calls from international points to the U.S., the providers must pre-register the users before they leave the country for the purpose of making VRS calls from international points for up to a maximum period of 4 weeks.

47 CFR 64.604(c)(1) requires each state and interstate TRS provider to maintain a log of consumer complaints and annually file a summary of the complaint log with the Commission.

47 CFR 64.604(c)(2) requires each state and interstate TRS provider to submit contact information to the Commission.

47 CFR 64.604(c)(5)(iii)(D)(3) requires providers to submit speed of answer data.

47 CFR 64.604(c)(5)(iii)(G) requires each new TRS provider to submit to the TRS Fund administrator a notification of its intent to participate in the TRS Fund 30 days prior to submitting its first report of TRS interstate minutes of use.

47 CFR 64.604(c)(6) provides procedures for consumers to file informal complaints alleging violations of the TRS rules, for TRS providers to respond to these complaints, and for the Commission to refer complaints concerning intrastate TRS to the states.

47 CFR 64.604(c)(7) requires that contracts between state TRS administrators and the TRS vendor provide for the transfer of TRS customer profile data from the outgoing TRS vendor to the incoming TRS vendor.

Federal Communications Commission.
Marlene H. Dortch,
Secretary.

[FR Doc. 2017-26158 Filed 12-4-17; 8:45 am]

BILLING CODE 6712-01-P